DEPARTMENT OF LABOR

Office of the Secretary

Submission for OMB Review; Comment Request

January 31, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darring King on (202) 693-4129 or e-mail: King-Darrin@dol.gov.

Comments should be sent to Office of Information and Regulatory Affairs, Attn: OMB Desk Officer for OSHA, Office of Management and Budget, Room 10235, Washington, DC 20503 ((202) 395-7316), within 30 days from the date of the publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Subpart A (General Provisions) and Subpart B (Confined and Enclosed Spaces and Other Dangerous Atmospheres) of 29 CFR part 1915.

OMB Number: 1218-0011.

Affected Public: Business or other for-profit; Federal Government; and State, Local, or Tribal Government.

Type of Response: Recordkeeping and Third-party disclosure.

Frequency: On occasion and Daily.

Number of Respondent: 300.

Number of Annual Responses: 885,304.

Estimated Time Per Response: Varies from two minutes to ten minutes.

Total Burden Hours: 134,819.

Total Annualized Capital/Startup Costs: $0.

Total Annual Costs (operating/maintaining systems or purchasing services): $0.

Description: Subpart A, paragraph (b) of § 1915.7 (“Competent Person”) specifies that employers must maintain a roster of designated competent persons (for inspecting and testing spaces covered by subpart B), or a statement that a marine chemist will perform these inspections and tests. Under paragraph (d) of this standard, employers must: Ensure that competent persons, marine chemists, and certified industrial hygienists make a record of each inspection and test they perform; post the record near the covered space while work is in progress; and file the record for a specified period. In addition, employers must make the roster or statement, and the inspection and test records, available to designated parties on request. Maintaining the required roster or statement as specified by paragraph (b) assures employees and OSHA that qualified competent persons are performing the inspections and tests. The recordkeeping requirement under paragraph (d) provides important information regarding the inspection and test results; this information allows employers to implement atmospheric controls and other safety procedures to furnish employees with a safe and healthful workplace, and permits employees and OSHA to determine the appropriateness of these controls and procedures.

Subpart B consists of several standards governing employee entry into confined and enclosed spaces and other dangerous atmospheres. These standards require employers to: Warn employees not to enter hazardous spaces and other dangerous atmospheres; exchange information regarding hazards, safety rules, and emergency procedures concerning these spaces and atmospheres with other employers whose employees may enter these spaces and atmospheres; post signs prohibiting ignition sources within or near a space that contains bulk quantities of flammable or combustible liquids or gases; ensure that a marine chemist or a U.S. Coast Guard authorized person tests and certifies confined and enclosed spaces and other dangerous atmospheres before performing hot work in these spaces and atmospheres; post this certificate in the immediate vicinity of the hot-work operation while the operation is in progress; and retain the certificate on file for at least three months after completing the operation. These paperwork requirements regulate employee entry into confined and enclosed spaces and other dangerous atmospheres located in shipyards, thereby preventing death or serious injury and illness that may result from employee exposure to the explosive, combustible, and toxic hazards contained in these spaces.

Type of Review: Extension of a currently approved collection.

Agency: Occupational Safety and Health Administration (OSHA).

Title: Cotton Dust—29 CFR 1910.1043.

OMB Number: 1218-0061.

Affected Public: Business or other for-profit; Federal Government; and State, Local, or Tribal Government.

Type of Response: Recordkeeping and Third-party disclosure.

Frequency: On occasion; Biennially; and Annually.

Number of Respondents: 535.

Number of Annual Responses: 234,477.

Estimated Time Per Response: Varies from five minutes to maintain a required record to two hours to conduct exposure monitoring.

Total Burden Hours: 74,267.

Total Annualized Capital/Startup Costs: $0.

Total Annual Costs (operating/maintaining systems or purchasing services): $6,526,314.

Description: The purpose of 29 CFR 1910.1043 and its information collection requirements to provide protection for employees from adverse health effects associated with occupation exposure to cotton dust. Employees must monitor exposure, keep employee exposure records within permissible exposure limits, provide employees with medical examinations and training, and maintain employee exposure-monitoring and medical records.

Type of Review: Extension of a currently approved collection.

Agency: Occupational Safety and Health Administration (OSHA).

Title: Acrylonitrile Standards—29 CFR 1910.1045.

OMB Number: 1218-0126.

Affected Public: Business or other for-profit; Federal Government; and State, Local, or Trial Government.

Type of Response: Recordkeeping, Reporting, and Third-party disclosure.

Frequency: On occasion; Quarterly; Semiannually; and Annually.

Number of Respondents: 23.

Number of Annual Responses: 19,446.

Estimated Time Per Response: Varies from five minutes to maintain employee exposure-monitoring and medical records to one and one-half hours for an employee to receive a medical examination.

Total Burden Hours: 4,433.

Total Annualized Capital/Startup Costs: $0.

Total Annual Costs (operating/maintaining systems or purchasing services): $222,765.

Description: 29 CFR 1910.1045 requires employers to monitor employee exposure to acrylonitrile (AN), to provide medical surveillance, to train employees about the hazards of AN, and to establish and maintain records of employee exposure to AN. There records are used by employers, employees, physicians, and the Government to ensure that employees are not harmed by exposure to AN.

Type of Review: Extension of a currently approved collection.

Agency: Occupational Safety and Health Administration (OSHA).

Title: Electrical Standard for Construction—29 CFR part 1926, subpart K.

OMB Number: 1218-0130.

Affected Public: Business or other for-profit; Federal Government; and State, Local, or Tribal Government.

Type of Response: Recordkeeping and Third-party disclosure.

Frequency: On occasion; Quarterly; Semi-annually; and Initially.

Number of Respondents: 70,000.

Number of Annual Responses: 2,829,582.

Estimated Time Per Response: Varies from one minute to tag an electrical circuit or piece of equipment to one hour to develop a written Assured Equipment Grounding Conductor (AEGC) program.

Total Burden Hours: 84,803.

Total Annualized Capital/Startup Costs: $0.

Total Annual Costs (operating/maintaining systems or purchasing services): $933,333.

Description: The Electrical Standards for Construction contain a number of paperwork requirements. The following sections describe these requirements in detail.

Section 1926.404(b)(1)(iii) (“Wiring design and protection”). This paragraph requires construction employees who elect not to use ground-fault-circuit interrupters at a job site to establish and implement an assured-equipment grounding-conductor (AEGC) program. This program must cove cord sets, receptacles (that are not part of the building or structure), and equipment connected by cord and plug that employees use, or is available for their use, at construction sites. An employer must ensure that the AEGC program has a written description of the program, including the specific procedures adopted by the employer, available at the job site for review and copying by OSHA compliance offices and any affected employee, and has at least one competent person, designated by employer, to implement the program. Prior to use, the employer also must visually inspect, for external defects (e.g., missing or deformed pins, insulation damage) and possible internal damage, each cord set, attachment cap, plug and receptacle of cord sets, and any equipment connected by cord and plug (except fixed cord sets and receptacles not exposed to damage); the employer must repair any damaged or defective equipment prior to use by an employee.

Under the AEGC program, the employer must test all cord sets, receptacles that are not part of the permanent wiring of the building or structure, and cord- and plug-connected equipment that require grounding. Accordingly, employers must test each equipment-grounding connector for continuity and ensure that it is electrically continuous, and test each receptacle and attachment cap or plug for correct attachment of the equipment-grounding conductor, and ensure that the conductor connects to the proper terminal. Employers are to perform these tests before; First using the equipment; returning the equipment to service following repair; and using equipment after any incident that the employer reasonably suspects damaged the equipment. In addition, an employer must conduct testing at least every three months, except for fixed cord sets and receptacles not exposed to damage, which employers must test at least every six months. Employers must also record the tests, including the identity of each receptacle, cord set, and cord- and plug-connected equipment that passed the test, and the previous testing date or the interval covered by the last test. The employer is to maintain these records using logs, color coding, or other effective means until replaced by the next record, and make them available at the job site for inspection by OSHA compliance officers and affected employees.

The purpose of the AEGC program is to detect and correct faults in grounding conductors before a high-voltage accident occurs. Grounding conductors often fail because of the rough use they receive at construction sites, and such failure results in improperly grounded equipment; employees who then use the improperly grounded equipment are at risk for death or injury caused by high-voltage electrical shock. The written program identifies the equipment that the competent person must inspect and test, and delineates the procedures they are to use while inspecting and testing the equipment for grounding faults. Making the written program available for review and copying by OSHA compliance officers and affected employees ensures that the program covers the required equipment currently used at the work site, and that the competent person is following appropriate procedures during inspection and testing. Recording the test results informs OSHA compliance officers and affected employees that the competent person tested the required equipment, and whether or not this equipment is safe to use.

Sections 1926.403(i)(2)(ii) (“General requirements [for installation safety requirements]”); .404(d)(2)(ii) (“Wiring design and protection”); .405(h) (“Wiring methods components, and equipment for general use”); .408(a)(2)(iii) and (a)(3)(i) (“Special systems”); and .416(a)(3) (“General requirements [for safety-related work practices]”). These provisions require employers to warn employees of hazardous electrical conditions, including:

• § 1926.403(i)(2)(iii). Mark the entrances to rooms and other guarded locations containing exposed live parts with conspicuous warning signs that forbid unqualified employees from entering.

• § 1926.403(i)(2)(iii). Post warning signs if unauthorized employees may come in contact with live parts.

• § 1926.405(h). Mark termination enclosures for portable cable over 600 volts (nominal) with a high-voltage hazard warning.

• Section 1926.408(a)(2)(iii). Provide a means to completely isolate equipment for inspection and repairs. Accordingly, employers must ensure that means of isolation not designed to interrupt the load current of the circuit either are capable of interlocking with a circuit interrupter or they must post a sign warning against opening the means under load.

• Section 1926.408(a)(3)(i). Provide a metallic structure on mobile or portable equipment for enclosing the terminals of the power cables, and mark the structure with a sign warning that the structure contains energized parts.

• Section 1926.416(a)(3). Before starting work, determine whether or not an employee, tool, or machine may come into physical or electrical contact with an energized electric power circuit, whether exposed or concealed. If so, the employer must post and maintain proper warning signs where such circuits exist, and advise employees of the location of such circuits, the hazards involved, and the protective measures they are to take.

These warning signs and marks alert unqualified and unauthorized employees to the presence of electrical hazards, and notify electricians of the need to exercise caution and to take other measures to protect themselves when they are near electrical hazards. Therefore, these paperwork requirements prevent death and serious injury among these employees that may result from inadvertent contact with high-voltage electrical hazards.

Section 1926.417(a), (b), and (c) (“Lockout and tagging of circuits”). These paragraphs require that employers tag deactivated controls to energized or deenergized circuits and equipment while employees are working on them. In addition, employers are to render deenergized equipment and circuits inoperative, and attach tags at points that control the release of energy to the deenergized circuits and equipment; these tags must plainly identify these circuits and equipment. The required tags warn others not to reengerize, or activate the controls to, circuits and equipment on which an employee is working. Accordingly, the tags prevent death and serious injury to these employees caused by high-voltage electrical shock, or by operation of the equipment.

Type of Review: Extension of a currently approved collection.

Agency: Occupational Safety and Health Administration (OSHA).

Title: Presence Sensing Device Initiation (PSDI)—29 CFR 1910.217(h).

OMB Number: 1218-0143.

Affected Public: Business or other for-profit; Federal Government; and State, Local, or Tribal Government.

Type of Response: Recordkeeping and Third-party Disclosure.

Frequency: On occasion, Annually, and Initially.

Number of Respondents: 0.

Number of Annual Responses: 0.

Estimated Time Per Response: 0.

Total Burden Hours: 1.

Total Annualized Capital/Startup Costs: $0.

Total Annual Costs (operating/maintaining systems or purchasing services): $0.

Description: A number of paragraphs in OSHA's Standard on Presence Sensing Device Initiation (PSDI) (29 CFR 1910.217(h)) (the “Standard”) contain paperwork requirements. These requirements include: Certifying brake-monitor adjustments, alternatives to photoelectric PSDs, safety-system design and installation, and employee training; annual recertification of safety systems; establishing and maintaining the original certification and validation records, as well as the most recent recertification and revalidation records; affixing labels to test rods and to certified and recertified presses; and notifying an OSHA-recognized third-party validation organization when a safety system component fails, the employer modifies the safety system, or a point-of-operation injury occurs. In addition, Appendix A of § 1910.217 provides detailed information and procedures required to meet the certification/validation provisions, as well as the design requirements, contained in the Standard. Accordingly, Appendix A supplements and explains the certification/validation provisions of the PSDI Standard, and does not specify new or additional paperwork requirements for employers. Appendix C § 1910.217 describes the requirements and procedures for obtaining OSHA recognition as a third-party validation organization; therefore, the paperwork requirements specified by this appendix do not impose burden hours or cost directly on employers who use PSDs.

By complying with these paperwork requirements, employers ensure that PSDI-equipped mechanical power presses are in safe working order, thereby preventing severe injury and death to press operators and other employees who work near this equipment. In addition, these records provide the most efficient means for an OSHA compliance officer to determine that an employer performed the requirements and that the equipment is safe.

OSHA is proposing to extend OMB approval of the information-collection requirements specified by the Standard even though the Agency can attribute no burden hours and cost to these requirements. In previous ICRs, OSHA estimated that each year employers would convert 1,988 mechanical presses to PSDI operation, and that manufacturers would produce an additional 250 new presses using PSDI (for an annual total of 2,238 presses). However, to date, no such presses appear to be in use, either because employers selected other stroke-control devices for mechanical power presses, or because no third-party organization is available to validate employer manufacturer certifications that their PSDI equipment and practices meet the requirements of the Standard. Therefore, the Standard does not currently affect any known employer; accordingly, the paperwork requirements currently result in no burden hours or cost to employers.

The Agency believes that efforts by the American National Standards Institute (ANSI) to develop a national consensus standard for PSDI may increase use of these devices in the near future. The metal-forming industry, which is working with ANSI on developing the national consensus standard, requested that Agency to retain the Standard. Therefore, OSHA is proposing that OMB extend its approval of the information-collection requirements specified by the Standard so that the Agency can enforce these requirements if employers begin using PSDI.

Type of Review: Extension of a currently approved collection.

Agency: Occupational Safety and Health Administration (OSHA).

Title: 4,4′-Methylenedianline (MDA) Construction Standard.

OMB Number: 1218-0183.

Affected Public: Business or other for-profit; Federal Government; and State, Local, or Tribal Government.

Type of Response: Recordkeeping and Third-party Disclosure.

Frequency: On occasion; Quarterly; Semi-annually; and Annually.

Number of Respondents: 66.

Number of Annual Responses: 3,962.

Estimated Time Per Response: Varies from five minutes to provide information to the examining physician to two hours to perform exposure monitoring.

Total Burden Hours: 1,609.

Total Annualized Capital/Startup Costs: $0.

Total Annual Costs (operating/maintaining systems or purchasing services): $80,400.

Description: 29 CFR 1926.60 provides protection for employees from adverse health effects associated with occupational exposure to MDA. Employers must monitor exposure, keep employee exposures within the permissible exposure limits, provide employees with medical examinations and training, and establish and maintain exposure-monitoring and medical records.

Type of Review: Extension of a currently approved collection.

Agency: Occupational Safety and Health Administration (OSHA).

Title: 4,4′-Methylenedianline (MDA) General Industry Standard.

OMB Number: 1218-0184.

Affected Public: Business or other for-profit; Federal Government; and State, Local, or Tribal Government.

Type of Response: Recordkeeping and Third-party Disclosure.

Frequency: On occasion; Quarterly; Semi-annually; and Annually.

Number of Respondents: 15.

Number of Annual Responses: 785.

Estimated Time Per Response: Varies from five minutes to provide information to the examining physician to two hours to perform exposure monitoring.

Total Burden Hours: 394.

Total Annualized Capital/Startup Costs: $0.

Total Annual Costs (operating/maintaining systems or purchasing services): $26,300.

Description:The purpose of 29 CFR 1910.1050 and its information collection requirements is to provide protection for employees from adverse health effects associated with occupational exposure to MDA. Employers must monitor exposure, keep employee exposures within the permissible exposure limits, provide employees with medical examinations and training, and establish and maintain employee exposure-monitoring and medical records.

Ira L. Mills,
Departmental Clearance Officer.

[FR Doc. 02-3110 Filed 2-7-02; 8:45 am]

BILLING CODE 4510-26-M